DEPARTMENT OF THE INTERIOR

National Park Service

Fire Management Plan, Final Environmental Impact Statement, Saguaro National Park, AZ

AGENCY: National Park Service, Interior.

ACTION: Notice of availability of the Final Environmental Impact Statement for the Fire Management Plan, Saguaro National Park.

SUMMARY: Pursuant to National Environmental Policy Act of 1969, 42 U.S.C. 4332(C), the National Park Service announces the availability of a Final Environmental Impact Statement for the Fire Management Plan, Saguaro National Park, Arizona.

DATES: The National Park Service will execute a Record of Decision (ROD) no sooner than 30 days following publication by the Environmental Protection Agency of the Notice of Availability of the Final Environmental Impact Statement.

ADDRESSES: Information will be available for public inspection in the office of the Superintendent, Sarah Craighead, Saguaro National Park, Headquarters and Rincon Mountain District, 3693 South Old Spanish Trail, Tucson, AZ 85730-5601, phone 520-733-5101; and at the following locations:

Internet: http://www.nps.gov/sagu/pphtml/documents.html.

FOR FURTHER INFORMATION CONTACT: Kevin Parrish, Fuels Management Specialist, Saguaro National Park, Headquarters and Rincon Mountain District, 3693 South Old Spanish Trail, Tucson, AZ 85730-5601, phone 520-733-5132, or Kevin_Parrish@nps.gov.

Dated: August 3, 2005.
Roger Maxwell,
Acting Director, Intermountain Region, National Park Service.

[FR Doc. 05-17851 Filed 9-8-05; 8:45 am]

BILLING CODE 4312-52-P